DEPARTMENT OF COMMERCE

National Oceanic and Atmospheric Administration

[I.D. 032802C]

Individual Fishing Quota (IFQ) Stakeholders; Public Meeting

AGENCY: National Marine Fisheries Service (NMFS), National Oceanic and Atmospheric Administration (NOAA), Commerce.

ACTION: Notice of public meeting.

SUMMARY: The H. John Heinz III Center for Science, Economics and the Environment, at NMFS’ request, will host a meeting to discuss quota allocation programs as options for fishery management. This meeting is open to the public. The public may also attend as observers and submit written statements to the stakeholder meetings on May 7 and 8, 2002.

DATES: The open meeting will convene at 9 a.m. on Monday, May 6, 2002, recess at 5 p.m. Small working sessions to solicit views and debate issues among pre-determined participants will continue on May 7 and 8, 2002.

ADDRESSES: The meeting will be held at The Tremont House Hotel, 2300 Ship Mechanic Row, Galveston, TX 77550, 409-763-0300.

FOR FURTHER INFORMATION CONTACT: Mary Hope Katsouros or Laurie Allen at 202-737-6307.

SUPPLEMENTARY INFORMATION: The purpose of the meeting is to discuss the use of quota allocation strategies as a tool for fishery management. This will be done by reviewing current U.S. individual fishing and transferable quota programs, community development programs and other cases, the 1999 National Research Council’s report, entitled “Sharing the Fish”, related reports and literature, and input from stakeholders. This meeting presents an opportunity for stakeholders to provide their views on the pros and cons of this type of fishery management tool. A report will be produced by The Heinz Center that will provide a summary of public input and an analysis of policy options considered by stakeholders. If you are unable to attend, but do want to provide input, send your written statements no later than 5 p.m., April 20, 2002, to The Heinz Center, Attn: IFQ Project, 1101 Pennsylvania Avenue, N.W., Suite 735 South, Washington, DC. 20004.

Although other issues not contained in this agenda may come before the Committee for discussion, in accordance with the Magnuson-Stevens Fishery Conservation and Management Act, those issue may not be the subject of formal action during the meeting. Action will be restricted to those issues specifically identified in this notice.

Special Accommodations

This meeting is physically accessible to people with disabilities. Requests for sign language interpretation or other auxiliary aids should be directed to Ms. Carolyn Porter at 503-326-6352 at least 5 days prior to the meeting date.

Dated: March 28, 2002.
Theophilus R. Brainerd,
Acting Director, Office of Sustainable Fisheries, National Marine Fisheries Service.

[FR Doc. 02-8084 Filed 4-2-02; 8:45 am]

BILLING CODE 3510-22-S